DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Drug and Alcohol Services Information System (DASIS) (OMB No. 0930-0106)—Revision

The DASIS consists of three related data systems: The Inventory of Substance Abuse Treatment Services (I-SATS); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment. In addition, SAMHSA and the State substance abuse officials participating in SAMHSA's December 2004 meeting on National Outcome Measures (NOMS) agreed that several NOMS data elements to assess the performance of the Substance Abuse Prevention and Treatment (SAPT) Block Grant will be collected in TEDS.

The request for OMB approval includes a request to conduct the 2006 N-SSATS survey and the 2006 Mini-N-SSATS. The Mini-N-SSATS is a procedure for collecting services data from newly identified facilities between main cycles of the survey and will be used to improve the listing of treatment facilities in the on-line treatment facility Locator. The 2006 N-SSATS questionnaire will include several new items, including the addition of nicotine replacement therapy and psychiatric medications to the pharmacotherapies list and the addition of new services to the list of services provided. The request also includes a request to conduct a pretest of the 2007 N-SSATS questionnaire in 2006. The 2007 pretest questionnaire will include several changes, including the modification of the treatment categories to better reflect the practices and terminology currently used in the treatment field; modification of the detoxification question, including the addition of a follow-up question on whether the facility uses drugs in detoxification and for which substances; the addition of questions on treatment approaches and behavioral interventions; the addition of a question on quality control procedures used by the facility; and, the addition of a question on whether the facility accepts ATR vouchers and how many annual admissions were funded by ATR vouchers. Following the pretest of the 2007 N-SSATS, a separate request for OMB approval will be submitted for the 2007 and 2008 N-SSATS, including the Mini-N-SSATS for those years.

The request for OMB approval will also include the addition of several new NOMS data elements to the TEDS client-level record. To the extent that states already collect the elements from their treatment providers, the following elements will be included in the TEDS data collection: Number of arrests at admission and at discharge; substances used/frequency of use at discharge; employment at discharge; and living arrangement at discharge.

Estimated annual burden for the DASIS activities is shown below:

Type of respondent and activity | Number of respondents | Responses per respondent | Hours per response | Total burden hours
States:
TEDS Admission Data | 52 | 4 | 6 | 1,248
TEDS Discharge Data | 40 | 4 | 8 | 1,280
TEDS Discharge Crosswalks | 5 | 1 | 10 | 50
I-SATS Update | 56 | 67 | .08 | 300
State subtotal | 56 |  |  | 2,878
Facilities:
I-SATS Update | 100 | 1 | .08 | 8
Pretest of N-SSATS revisions | 200 | 1 | .17 | 34
N-SSATS questionnaire | 17,000 | 1 | .2 | 3,400
Augmentation screener | 1,000 | 1 | .08 | 80
Mini-N-SSATS | 700 | 1 | .13 | 91
Facility subtotal | 19,000 |  |  | 3,613
Total | 19,056 |  |  | 6,491

Written comments and recommendations concerning the proposed information collection should be sent by September 26, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 12, 2005.
Anna Marsh,
Executive Officer, SAMHSA.

[FR Doc. 05-16989 Filed 8-25-05; 8:45 am]

BILLING CODE 4162-20-P